DEPARTMENT OF COMMERCE

International Trade Administration

University of Chicago, Notice of Decision on Application for Duty-Free Entry for Scientific Instrument

This decision is made pursuant to Section 6(c) of the Educational, Scientific, and Cultural Materials Importation Act of 1966 (Pub. L. 89-651, 80 Stat. 897; 15 CFR part 301). Related records can be viewed between 8:30 A.M. and 5:00 P.M. in Suite 4100W, U.S. Department of Commerce, Franklin Court Building, 1099 14th Street, NW, Washington, D.C.

Docket Number: 05-012. Applicant: University of Chicago, Chicago, IL 60637. Instrument: Pattern Selection Triggers (63). Manufacturer: Hytec Electronics, Ltd., United Kingdom. Intended Use: See notice at 70 FR 13011, March 17, 2005. Comments: None received. Decision: Approved. No apparatus of equivalent scientific value to the foreign apparatus, for such purposes as it is intended to be used, is being manufactured in the United States.

Reason: These articles are compatible accessories for the operation of the Very Energetic Radiation Imaging Telescope Array System in Arizona by an international consortium to study high-energy gamma rays of astronomical origin. The accessories are pertinent to the applicant's intended contribution to the project and we know of no similar domestic accessories which can be readily adapted for use with this telescope.

Gerald A. Zerdy,
Program Manager Statutory Import Programs Staff.

[FR Doc. E5-1847 Filed 4-18-05; 8:45 am]

BILLING CODE 3510-DS-S